DEPARTMENT OF THE INTERIOR

Fish and Wildlife Service

50 CFR Part 17

[Docket No. FWS-R8-ES-2013-0011; 4500030114]

RIN 1018-AZ44

Endangered and Threatened Wildlife and Plants; Designation of Critical Habitat for the Western Distinct Population Segment of the Yellow-Billed Cuckoo (Coccyzus americanus)

AGENCY: Fish and Wildlife Service, Interior.

ACTION: Proposed rule; reopening of comment period.

SUMMARY: On August 15, 2014, we, the U.S. Fish and Wildlife Service (Service), announced a proposal to designate critical habitat for the western distinct population segment of the yellow-billed cuckoo under the Endangered Species Act of 1973, as amended (Act). We now announce a reopening of the comment period for our August 15, 2014, proposed rule to allow for us to accept and consider additional public comments on the proposed rule.

DATES: The comment period for the proposed rule published on August 15, 2014 (79 FR 48548), is reopened. We request that comments on this proposal be submitted by the close of business on January 12, 2015.

ADDRESSES: Document availability: You may obtain a copy of the proposed rule on the Internet at http://www.regulations.gov at Docket No. FWS-R8-ES-2013-0011, or contact the U.S. Fish and Wildlife Service, Sacramento Fish and Wildlife Office (see FOR FURTHER INFORMATION CONTACT), or by mail from U.S. Fish and Wildlife Service, Sacramento Fish and Wildlife Office (see FOR FURTHER INFORMATION CONTACT).

Comment Submission: You may submit comments by one of the following methods:

(1) Electronically: Go to the Federal eRulemaking Portal: http://www.regulations.gov. In the Search box, enter FWS-R8-ES-2013-0011, which is the docket number for this rulemaking. Then, in the Search panel on the left side of the screen, under the Document Type heading, click on the Proposed Rule link to locate the document. You may submit a comment by clicking on “Comment Now!”

(2) By hard copy: Submit by U.S. mail or hand-delivery to: Public Comments Processing, Attn: FWS-R8-ES-2013-0011; Division of Policy and Directives Management; U.S. Fish & Wildlife Headquarters, MS: BPHC, 5275 Leesburg Pike, Falls Church, VA 22041-3803.

We request that you send comments only by the methods described above. We will post all comments on http://www.regulations.gov. This generally means that we will post any personal information you provide us (see the Information Requested section below for more information).

FOR FURTHER INFORMATION CONTACT: For information about the proposed listing, contact Jennifer Norris, Field Supervisor, U.S. Fish and Wildlife Service, Sacramento Fish and Wildlife Office, 2800 Cottage Way, W-2605, Sacramento, California 95825; by telephone 916-414-6600; or by facsimile 916-414-6712. Persons who use a telecommunications device for the deaf (TDD) may call the Federal Information Relay Service (FIRS) at 800-877-8339.

SUPPLEMENTARY INFORMATION:

Background

On August 15, 2014, we published in the Federal Register a proposed rule to designate critical habitat for the western distinct population segment (DPS) of the yellow-billed cuckoo (western yellow-billed cuckoo) (Coccyzus americanus) under the Endangered Species Act (79 FR 48548). In total, approximately 546,335 acres (221,094 hectares) are being proposed for designation as critical habitat in Arizona, California, Colorado, Idaho, Nevada, New Mexico, Texas, Utah, and Wyoming for the western yellow-billed cuckoo under the Act. During the public comment period, we received requests to extend or reopen the public comment period on the proposed rule beyond the October 14, 2014, due date. In order to ensure that the public has an adequate opportunity to review and comment on our proposed rule, we are reopening the comment period for an additional 60 days. We are also in the process of determining the appropriate location and time of any public meeting(s) or hearing(s) and will publish a subsequent notice in the Federal Register once the details of such meetings are confirmed.

Information Requested

We intend that any final action resulting from this proposed rule will be based on the best scientific and commercial data available and be as accurate and as effective as possible. Therefore, we request comments or information from other concerned Federal and State agencies, the scientific community, or any other interested party concerning the proposed critical habitat designation. Please see the Information Requested section of the August 15, 2014, proposed critical habitat rule for a list of the comments that we particularly seek (79 FR 48548-48549).

For more background on our proposed designation, see the August 15, 2014, Federal Register (79 FR 48548). The proposed rule is available at the Federal eRulemaking Portal at http://www.regulations.gov (see ADDRESSES).

If you previously submitted comments or information on the proposed rule, please do not resubmit them. We have incorporated them into the public record, and we will fully consider them in our final rulemaking. Our final determination concerning this proposed rulemaking will take into consideration all written comments and any additional information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed designation, will be available for public inspection on http://www.regulations.gov, or by appointment, during normal business hours, at the U.S. Fish and Wildlife Service, Sacramento Fish and Wildlife Office (see FOR FURTHER INFORMATION CONTACT).

Authority

The authority for this action is the Endangered Species Act of 1973, as amended (16 U.S.C. 1531 et seq.).

Dated: October 27, 2014.
Michael Bean,
Principal Deputy Assistant Secretary for Fish and Wildlife and Parks.

[FR Doc. 2014-26685 Filed 11-10-14; 8:45 am]

BILLING CODE 4310-55-P